DEPARTMENT OF ENERGY

Energy Efficiency and Renewable Energy

State Energy Advisory Board (STEAB); Correction

AGENCY: Energy Efficiency and Renewable Energy, Department of Energy.

ACTION: Notice of Open Meeting: Correction.

SUMMARY: The Department of Energy (DOE) published in the Federal Register on April 4, 2013, a notice of an open meeting for the State Energy Advisory Board (STEAB). The notice is being corrected to change the dates of the meeting.

Correction

In the Federal Register of April 4, 2013, in FR DOC. 2013-07832, on page 20311, please make the following corrections:

In the DATES heading, third column, first paragraph, first line, please remove, “June 25, 2013” and “June 26, 2013” and add in its place add “July 17, 2013” and “July 18, 2013”.

In the ADDRESSES heading, third column, first paragraph, second line, please remove, “(in the Jefferson Meeting Room)”.

Issued in Washington, DC on June 6, 2013.
LaTanya R. Butler,
Deputy Committee Management Officer.

[FR Doc. 2013-13958 Filed 6-11-13; 8:45 am]

BILLING CODE 6450-01-P